DEPARTMENT OF TRANSPORTATION

Federal Aviation Administration

14 CFR Part 39

[Docket No. FAA-2012-1039; Directorate Identifier 2011-NM-275-AD; Amendment 39-17491; AD 2013-13-03]

RIN 2120-AA64

Airworthiness Directives; Airbus Airplanes

AGENCY: Federal Aviation Administration (FAA), Department of Transportation (DOT).

ACTION: Final rule.

SUMMARY: We are adopting a new airworthiness directive (AD) for certain Airbus Model A319-112, -113, and -132 airplanes; Model A320-211, -212, -214, -231, and -232 airplanes; and Model A321-111 and -131 airplanes. This AD was prompted by a report of two fatigue cracks on the left-hand and right-hand sides of the continuity fittings at the front windshield lower framing on a Model A319 series airplane. This AD requires a high frequency eddy current (HFEC) inspection for any cracking on the left-hand and right-hand sides of the windshield central lower node continuity fittings, and repair if necessary. We are issuing this AD to detect and correct cracking of the windshield central lower node continuity fittings, which could reduce the structural integrity of the airplane.

DATES: This AD becomes effective August 14, 2013.

The Director of the Federal Register approved the incorporation by reference of a certain publication listed in this AD as of August 14, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Discussion

We issued a notice of proposed rulemaking (NPRM) to amend 14 CFR part 39 to include an AD that would apply to the specified products. That NPRM was published in the Federal Register on October 4, 2012 (77 FR 60658). The European Aviation Safety Agency (EASA), which is the Technical Agent for the Member States of the European Community, has issued EASA Airworthiness Directive 2011-0231, dated December 9, 2011 (referred to after this as the Mandatory Continuing Airworthiness Information, or “the MCAI”), to correct an unsafe condition for the specified products. The MCAI states:

One operator reported finding two fatigue cracks on continuity fittings at left-hand (LH) and right-hand (RH) sides at the front windshield lower framing on an A319 aeroplane on which Airbus modification (mod.) 22058 had been embodied in production. Airbus mod. 22058 (which is included in Airbus mod. 21999) was introduced to improve the fatigue strength of the windshield front framing by increasing the thickness of framing flanges adjacent to the concerned fittings.

Further analyses have demonstrated that the damage tolerance and fatigue requirements of JAR 25.571 (b) are not met on aeroplanes in post-mod. 22058 configuration.

This condition, if not detected and corrected, could reduce the structural integrity of the affected aeroplanes.

Required actions include an HFEC inspection for any cracking on the left-hand and right-hand sides of the windshield central lower node continuity fittings, and repair if necessary. You may obtain further information by examining the MCAI in the AD docket.

Comments

We gave the public the opportunity to participate in developing this AD. We considered the comments received.

Request To Revise HFEC Inspection Requirement

Airbus requested that the one-time HFEC inspection in paragraph (g) of the NPRM (77 FR 60658, October 4, 2012) be revised in anticipation of further rulemaking by the EASA, which would mandate the airworthiness limitation inspection task and would correspond with the one-time HFEC inspection.

We disagree with Airbus's request. We have determined that publishing this final rule without any further delay is in the interest of safety of the flying public. However, we will consider additional AD rulemaking, if appropriate, in the future. We have not revised this final rule in this regard.

Request for Approval of Repair

Airbus requested consideration that each Airbus Repair Approval Sheet (RAS) be approved under “AIRBUS DOA EASA.21J.031,” provided that this is done after cracking is reported. Airbus stated that this would be an approved method for repair as required by paragraph (g) of the NPRM (77 FR 60658, October 4, 2012).

We agree. Airbus is an EASA-delegated agent; therefore, a RAS approved under Airbus Design Organization Approval (DOA) EASA.21J.031 would be a method of compliance for a repair required by this AD. We have not changed the final rule in this regard.

Request To Update Address for the Manufacturer

Airbus requested that the address for the manufacturer be updated. Airbus stated that in paragraph (k)(2) of the NPRM (77 FR 60658, October 4, 2012), “EAS” should be replaced with “EIAS.”

We agree with Airbus's request to update the manufacturer's address. Paragraphs (k)(2) and (l)(3) of this final rule have been updated accordingly.

Conclusion

We reviewed the available data, including the comments received, and determined that air safety and the public interest require adopting the AD with the change described previously—and minor editorial changes. We have determined that these changes:

• Are consistent with the intent that was proposed in the NPRM (77 FR 60658, October 4, 2012) for correcting the unsafe condition; and

• Do not add any additional burden upon the public than was already proposed in the NPRM (77 FR 60658, October 4, 2012).

Costs of Compliance

We estimate that this AD will affect 105 products of U.S. registry. We also estimate that it will take about 20 work-hours per product to comply with the basic requirements of this AD. The average labor rate is $85 per work-hour. Based on these figures, we estimate the cost of this AD to the U.S. operators to be $178,500, or $1,700 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 60658, October 4, 2012), the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-13-03 Airbus: Amendment 39-17491. Docket No. FAA-2012-1039; Directorate Identifier 2011-NM-275-AD.

(a) Effective Date

This airworthiness directive (AD) becomes effective August 14, 2013.

(b) Affected ADs

None.

(c) Applicability

This AD applies to Airbus Model A319-112, -113, and -132 airplanes; Model A320-211, -212, -214, -231, and -232 airplanes; and Model A321-111 and -131 airplanes; certificated in any category; manufacturer serial numbers 0259, 0260, 0264, 0266 through 0270 inclusive, 0275, 0276, 0278, 0287, 0296, 0300, 0303, 0312, 0320, 0321, 0323, 0325, 0328, 0332, 0334, 0335, 0337, 0346, 0352, 0353, 0356, 0365, 0369, 0375, 0377, 0382, 0383, 0396, 0398, 0401, 0412, 0413, 0416, 0419, 0421, 0431, 0432, 0438, 0440, 0441, 0445, 0453, 0458, 0459, 0466, 0468, 0473, 0474, 0482, 0484, 0491, 0493, 0497, 0498, 0501, 0502, 0505, 0507, 0509, 0518, 0520, 0521, 0529, 0531, 0534, 0537, 0538, 0544, 0549, 0554, 0555, 0560, 0563, 0577, 0578, 0585, 0598, 0600, 0608, 0612, 0618, 0621, 0625, 0637, 0660, 0685, 0976, 1010, 1092, 1096, 1103, 1139, 1143, 1158, 1251, 1356, and 1511.

(d) Subject

Air Transport Association (ATA) of America Code 53, Fuselage.

(e) Reason

This AD was prompted by a report of two fatigue cracks on the left-hand and right-hand sides of the continuity fittings at the front windshield lower framing on a Model A319 series airplane. We are issuing this AD to detect and correct cracking of the windshield central lower node continuity fittings, which could reduce the structural integrity of the airplane.

(f) Compliance

You are responsible for having the actions required by this AD performed within the compliance times specified, unless the actions have already been done.

(g) Inspection and Corrective Action

Before the accumulation of 34,000 total flight cycles since the airplane's first flight, or within 4,500 flight cycles after the effective date of this AD, whichever occurs later: Perform a high frequency eddy current (HFEC) inspection for any cracking on the left-hand and right-hand sides of the windshield central lower node continuity fittings, in accordance with the Accomplishment Instructions of Airbus Service Bulletin A320-53-1245, Revision 01, including Appendix 1, dated May 17, 2011. If any cracking is found, before further flight, repair using a method approved by the Manager, International Branch, ANM-116, FAA, or the European Aviation Safety Agency (EASA) (or its delegated agent).

(h) Reporting Requirement

Submit a report of the findings (both positive and negative) of the inspection required by paragraph (g) of this AD to Airbus, Customer Service Directorate, Attn: SDC32 Technical Data and Documentation Services, 1 Rond Point Maurice Bellonte, 31707 Blagnac Cedex, France; fax +33 5 61 93 28 06; email sb.reporting@airbus.com; at the applicable time specified in paragraph (h)(1) or (h)(2) of this AD.

(1) If the inspection was done on or after the effective date of this AD: Submit the report within 30 days after the inspection.

(2) If the inspection was done before the effective date of this AD: Submit the report within 30 days after the effective date of this AD.

(i) Credit for Previous Actions

This paragraph provides credit for the actions required by paragraph (g) of this AD, if those actions were performed before the effective date of this AD using Airbus Service Bulletin A320-53-1245, including Appendix 1, dated March 2, 2011, which is not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

(1) Refer to MCAI EASA Airworthiness Directive 2011-0231, dated December 9, 2011, for related information. The MCAI may be viewed on the Internet at http://ad.easa.europa.eu/blob/easa_ad_2011_0231.pdf.

(2) Service information identified in this AD that is not incorporated by reference in this AD may be obtained at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Service Bulletin A320-53-1245, Revision 01, including Appendix 1, dated May 17, 2011.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 14, 2013.
Jeffrey E. Duven,
Acting Manager, Transport Airplane Directorate, Aircraft Certification Service.

[FR Doc. 2013-15153 Filed 7-9-13; 8:45 am]

BILLING CODE 4910-13-P